DEPARTMENT OF THE INTERIOR

Bureau of Land Management

[NV-020-02-1990-EX]

Notice of Intent To Prepare a Supplemental Environmental Impact Statement To Analyze the Proposed Millennium Project Plan of Operations for Glamis Marigold Mining Company and Notice of Public Scoping and Public Meetings

AGENCY: Bureau of Land Management, Interior.

ACTION: Notice of Intent to Prepare a Supplemental Environmental Impact Statement to analyze the Proposed Millennium Project Plan of Operations for Glamis Marigold Mining Company (GMMC) and notice of public scoping and public meetings.

SUMMARY: Pursuant to section 102(2)(c) of the National Environmental Policy Act of 1969 (NEPA), 40 Code of Federal Regulations 1500-1508 Council on Environmental Quality Regulations, and 43 Code of Federal Regulations 3809, the Bureau of Land Management (BLM), Winnemucca Field Office will be directing the preparation of a third-party Supplemental Environmental Impact Statement (SEIS) to analyze a proposed new mine expansion called the Millennium project. The project would disturb approximately 1,394 acres of public and private lands and is located in Humboldt County, Nevada.

DATES: This notice initiates the public scoping process. Comments can be submitted in writing to the BLM, Winnemucca Field Office at the address listed below. All public meetings will be announced through the local news media and newsletters at least 15 days prior to the meetings.

Public Participation: The purpose of these public meetings is to identify potentially significant issues to be addressed in the SEIS, to determine the scope of issues to be addressed, to identify viable alternatives, and to encourage public participation in the NEPA process. Additional briefings will be considered, as appropriate. Comments, including names and street addresses of respondents, will be available for public review at the Winnemucca Field Office located in Winnemucca, Nevada, during regular business hours, and may be published as part of the SEIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: Written comments should be addressed to the Bureau of Land Management, Winnemucca Office, Attention: Jeff Johnson, 5100 E. Winnemucca Blvd., Winnemucca, Nevada 89445.

FOR FURTHER INFORMATION CONTACT: Jeff Johnson, BLM Winnemucca at (775) 623-1500 or FAX # (775) 623-1503.

SUPPLEMENTARY INFORMATION: Since 1988 the Marigold Mine located approximately three miles south of Valmy, Nevada has been in commercial operation. The Marigold mine presently has mineral/development interests on approximately 19,000 acres of private and public land. In September 2001, BLM issued a Record of Decision authorizing activities proposed in an environmental impact statement (EIS). Previous to the EIS, numerous mine plan modifications and the original mine plan approvals were authorized in various environmental assessments (EAs). Currently, the mine is approved to disturb 1,831 acres on private and public lands. In April 2002, GMMC submitted a plan of operations modification referred to as the Millennium Expansion Project. The Millennium Expansion Project would disturb an additional 1,394 acres and would include expansion of existing and construction of new pits, expansion of existing waste rock storage facilities and construction of new waste rock storage facilities, two new heap leach processing facilities to include solution ponds, carbon columns, reagent storage tanks, a new ADR facility, support facilities (truck shop, fuel storage, warehouse), ancillary facilities, and construction of an evapo-transpiration closure cover system for the heap leach facilities.

Dated: June 13, 2002.
Terry A. Reed,
Field Manager, Winnemucca Field Office.

[FR Doc. 02-17588 Filed 7-11-02; 8:45 am]

BILLING CODE 4310-HC-P